Title 3—

The President

Proclamation 10103 of October 16, 2020

National Character Counts Week, 2020

By the President of the United States of America

A Proclamation

The foundation of any free and virtuous society is the moral character of its people. Personal responsibility, integrity, and the other values which define our unique American spirit underpin our system of self-government and inspire us to continue working toward a more perfect Union. As we observe National Character Counts Week, we think of the special individuals in our lives who exemplify the character qualities to which we all aspire. In looking to these examples of honor and virtue, we recognize that character is a learned attribute acquired through consistent, purposeful action, not an inherent trait. We must resolve to build lives and communities grounded in moral clarity in order to strengthen ourselves, our families, our communities, and our Nation.

From small acts of kindness to supreme selfless sacrifice, everyday heroes and larger-than-life American historical figures have deepened the roots of freedom of our Nation. Individuals of integrity and principle lift us all to greater heights, evincing the same core virtues in both the depths of adversity and the heights of success. We see this exemplified every day by the brave men and women of our Armed Forces who risk their lives to defend the cherished blessings of liberty we hold dear. We also see it every day in our communities from law enforcement professionals and first responders who devote their lives to the safety and well-being of others and face down danger. Community volunteers and faith organizations reveal the character of our Nation through their selfless giving of time and assistance to people in need. In places of learning, teachers and mentors build up our character by cultivating social and cultural awareness, intellectual curiosity, and a sense of responsibility in our future leaders. And in our homes, family members and loved ones offer compassion and guidance that also play a vital role in shaping our values.

The inherent righteousness of America's moral character has perhaps never been needed more than in recent months as we have battled the coronavirus pandemic. In communities large and small throughout our country, acts of kindness have touched millions of individuals and families, uniting us under one common purpose to defeat the virus. Americans have selflessly supported their neighbors in need, delivering food and essential supplies to the most vulnerable and evincing a deep capacity for generosity and caring. Medical professionals have worked long hours at great personal risk to provide care to the sick and injured, and military personnel have mobilized to provide critical medical assistance and help keep us safe. Faith and community leaders have provided vital emotional support for those experiencing social isolation, and countless others have sacrificed to ease the burden on their family, friends, neighbors, and even complete strangers. This week, as we continue to unite as one Nation to both defeat the virus and safely reopen our country, we are reminded of how far decency and compassion can go in helping others during times of great challenge and uncertainty.

Every opportunity to show consideration for another person is also an opportunity to build habits of kindness and strengthen our character. Our words and deeds leave imprints in our homes, schools, communities, and places of worship. Throughout this week, we recommit to being more kind, loving, understanding, and virtuous. Together, as one national family, we must serve others with giving and grateful hearts to ensure our Republic remains strong, vibrant, and a beacon of hope for future generations.

NOW, THEREFORE, I, DONALD J. TRUMP, President of the United States of America, by virtue of the authority vested in me by the Constitution and the laws of the United States, do hereby proclaim October 18 through October 24, 2020, as National Character Counts Week. I call upon public officials, educators, parents, students, and all Americans to observe this week with appropriate ceremonies, activities, and programs.

IN WITNESS WHEREOF, I have hereunto set my hand this sixteenth day of October, in the year of our Lord two thousand twenty, and of the Independence of the United States of America the two hundred and forty-fifth.

[FR Doc. 2020-23538

Filed 10-21-20; 8:45 am]

Billing code 3295-F1-P